SMALL BUSINESS ADMINISTRATION

[Declaration of Disaster #3531, Amdt. 1]

State of Texas

In accordance with a notice received from the Department of Homeland Security—Federal Emergency Management Agency, effective July 23, 2003, the above numbered declaration is hereby amended to include Bee, Brazoria, Galveston and Goliad counties as disaster areas due to damages caused by Hurricane Claudette occurring on July 15, 2003, and continuing.

In addition, applications for economic injury loans from small businesses located in the contiguous counties of Chambers, Fort Bend, Harris, Karnes, and Live Oak in the State of Texas may be filed until the specified date at the previously designated location. Colorado County has also been determined to be contiguous to a previously declared county and applications for economic injury loans from small businesses may be filed until the specified date at the previously designated location. All other counties contiguous to the above named primary counties have been previously declared.

All other information remains the same, i.e., the deadline for filing applications for physical damage is September 16, 2003, and for economic injury the deadline is April 19, 2004.

(Catalog of Federal Domestic Assistance Program Nos. 59002 and 59008).
Dated: July 24, 2003.
Herbert L. Mitchell,
Associate Administrator for Disaster Assistance.

[FR Doc. 03-19466 Filed 7-30-03; 8:45 am]

BILLING CODE 8025-01-P